NUCLEAR REGULATORY COMMISSION

[Docket Nos. 50-245, 50-336, and 50-423; NRC-2011-0202]

Dominion Nuclear Connecticut, Inc., Millstone Power Station, Unit Nos. 1, 2, and 3; Environmental Assessment and Finding of No Significant Impact

The U.S. Nuclear Regulatory Commission (NRC) is considering issuance of an exemption from Title 10 of the Code of Federal Regulations (10 CFR) Part 26, “Fitness for Duty Programs,” for Facility Operating License Nos. DPR-21, DPR-65, and NPF-49, issued to Dominion Nuclear Connecticut, Inc. (the licensee), for operation of the Millstone Power Station Unit Nos. 1, 2, and 3, located in New London County, Connecticut. Therefore, as required by 10 CFR 51.21, the NRC performed an environmental assessment. Based on the results of the environmental assessment, the NRC is issuing a finding of no significant impact.

Environmental Assessment

Identification of the Proposed Action

The proposed action would provide exemption from the work hour control requirements of 10 CFR 26.205(c) and (d) during declarations of severe weather conditions involving tropical storm or hurricane force winds.

The proposed action is in accordance with the licensee's application dated February 10, 2011 (Agencywide Documents Access and Management System (ADAMS) Accession No. ML110450583), as supplemented by letter dated March 10, 2011 (ADAMS Accession No. ML110740442).

The Need for the Proposed Action

The proposed action extends the exception provided by 10 CFR 26.207(d) to include pre-defined entry and exit conditions related to hurricane events because the sequestering of plant personnel and related staff resource limitations may occur at times prior to and following the current entry and exit conditions (i.e., emergency declaration) specified in 10 CFR 26.207(d). Entry into a severe weather situation involving tropical storm or hurricane force winds can impose conditions similar to entry into the site emergency plan where the imposition of work hour controls on vital personnel could impede the ability to focus on plant safety and security, and may be detrimental to the health and safety of the public.

Environmental Impacts of the Proposed Action

The NRC has completed its environmental assessment of the proposed action and concludes that extending the exception provided by 10 CFR 26.207(d) to include pre-defined entry and exit conditions related to hurricane events would not significantly affect plant safety, as it does not change the Technical Specification-required shift staffing. Additionally, the time from entry into the condition in which the work hour control exemption applies, to exiting the condition, is limited to severe weather situations involving tropical storm or hurricane force winds. The licensee states that the Hurricane Response Plan (Nuclear) and other plant-specific procedures ensure that adequate resources and guidance are in place to prepare for, respond to, and recover from severe weather conditions associated with tropical storm or hurricane force winds.

The proposed action will not significantly increase the probability or consequences of accidents. The proposed action would not result in an increased radiological hazard beyond those previously analyzed in the Final Safety Analysis Report. No changes are being made in the types of effluents that may be released offsite. There is no significant increase in the amount of any effluent released offsite. There is no significant increase in occupational or public radiation exposure. No changes will be made to plant buildings or site property. Therefore, there are no significant radiological environmental impacts associated with the proposed action.

The proposed action does not result in changes to land use or water use, or result in changes to the quality or quantity of non-radiological effluents. No changes to the National Pollution Discharge Elimination System permits are needed. No effects on the aquatic or terrestrial habitat in the vicinity of the plant, or to threatened, endangered, or protected species under the Endangered Species Act, or impacts to fish habitat covered by the Magnuson-Stevens Act are expected. There are no impacts to the air or ambient air quality. There are no impacts to historical or cultural resources. There would be no noticeable effect on socioeconomic conditions in the region. Therefore, no changes or different types of non-radiological environmental impacts are expected as a result of the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. Other alternatives to the proposed action include entry and exit conditions, other than those proposed by the licensee, which would change the duration in which the exemption is effective. The staff concludes that these alternatives would not have a significant impact. The environmental impacts of the proposed action and the alternative actions are similar.

Alternative Use of Resources

The action does not involve the use of any different resources than those previously considered in the U.S. Atomic Energy Commission's 1973 “Final Environmental Statement Related to the Continuation of Construction of Unit 2 and the Operation of Units 1 and 2, Millstone Nuclear Power Station,” the NRC's 1984 “Final Environmental Statement related to operation of Millstone Nuclear Power Station, Unit No. 3,” and NUREG-1437, “Generic Environmental Impact Statement for License Renewal of Nuclear Plants,” Supplement 22 regarding Millstone Power Station, Units 2 and 3.

Agencies and Persons Consulted

In accordance with its stated policy, on May 13, 2011, the staff consulted with the Connecticut State official, Michael Firsick of the Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 10, 2011, as supplemented by letter dated March 10, 2011. Documents may be examined, and/or copied for a fee, at the NRC's Public Document Room (PDR), located at One White Flint North, Public File Area O1 F21, 11555 Rockville Pike (first floor), Rockville, Maryland. Publicly available documents created or received at the NRC in Agencywide Documents Access and Management System (ADAMS) are available online in the NRC Library at http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 22nd day of August 2011.
For the Nuclear Regulatory Commission.
Carleen J. Sanders,
Project Manager, Plant Licensing Branch I-2, Division of Operating Reactor Licensing, Office of Nuclear Reactor Regulation.

[FR Doc. 2011-22280 Filed 8-30-11; 8:45 am]

BILLING CODE 7590-01-P